DEPARTMENT OF STATE

[Public Notice 6626]

Shipping Coordinating Committee Meeting

Title: Shipping Coordinating Committee Meeting.

The Shipping Coordinating Committee (SHC) will conduct an open meeting at 9:30 a.m. on Wednesday, July 8, 2009, in Room 6103 of the United States Coast Guard Headquarters Building, 2100 Second Street, SW., Washington, DC 20593. The purpose of the meeting is to prepare for the fifty-fifth Session of the International Maritime Organization (IMO) Sub-committee on Safety of Navigation (NAV 55) to be held at the IMO's London headquarters, from July 27 to July 31, 2009. The primary matters to be considered at NAV 55 include:

—Routing of ships, ship reporting and related matters;

—Development of guidelines for integrated bridge systems (IBS), including performance standards for bridge alert management;

—Guidelines for consideration of requests for safety zones larger than 500 meters around artificial islands, installations and structures in the EEZ;

—Amendments to the Performance standards for Voyage Data Recorders (VDR) and Simplified VDR (S-VDR);

—Development of procedures for updating shipborne navigation and communications equipment;

—International Telecommunication Union (ITU) matters, including Radiocommunication ITU-R Study Group 8;

—Code of conduct during demonstrations/campaigns against ships on high seas;

—Measures to minimize incorrect data transmissions by automatic identification system (AIS) equipment;

—Development of an e-navigation strategy implementation plan;

—Guidelines on the layout and ergonomic design of safety centers on passenger ships;

—Review of vague expressions in the International Convention for the Safety of Life at Sea (SOLAS) regulation V/22;

—Revision of the Guidance on the application of AIS binary messages;

—Improved safety of pilot transfer arrangements;

—Casualty analysis; and

—Consideration of International Association of Classification Societies (IACS) unified interpretations.

Members of the public may attend the July 8th meeting of the SHC up to the seating capacity of the room. Due to security considerations, two valid, government-issued photo identification documents must be presented to gain entrance to the building. The Coast Guard Headquarters building is accessible by taxi and privately owned conveyance. Please note that parking in the vicinity of the building is extremely limited and that public transportation is not generally available.

To facilitate attendance to this meeting of the SHC, those who plan to attend should contact the meeting coordinator, Mr. Edward J. LaRue Jr., not later than 4 p.m. on Thursday, July 3, 2009 by e-mail at Edward.J.LaRue@uscg.mil, by phone at (202) 372-1564, by fax at (202) 372-1930, or by writing to Commandant (CG-5413), U.S. Coast Guard Headquarters, 2100 2nd Street, SW., Room 1409, Washington, DC 20593-0001. Additional information regarding this and other SHC public meetings and associated IMO meetings may be found at: http://www.uscg.mil/imo.

Dated: May 19, 2009.
Mark Skolnicki,
Executive Secretary, Shipping Coordinating Committee, Department of State.

[FR Doc. E9-12304 Filed 5-26-09; 8:45 am]

BILLING CODE 4710-09-P